DEPARTMENT OF VETERANS AFFAIRS

Privacy Act of 1974; System of Records

AGENCY: Department of Veterans Affairs.

ACTION: Notice to amend an existing system of records.

SUMMARY: In accordance with the requirements of the Privacy Act of 1974, as amended, 5 U.S.C. 552a(e)(4), the Department of Veterans Affairs (VA) is amending the system of records entitled “Purchase Credit Card Program-VA” (131VA047) as described in the Federal Register at 70 FR 7320 (February 11, 2005). VA is amending the system of records by updating our routine uses relating to records maintained in the system. VA is republishing the system of records notice in its entirety.

DATES: Written comments mailed to the Department must be postmarked no later than April 30, 2009, and written comments hand-delivered or submitted electronically to the Department must be received no later than 5 p.m. Eastern Time on April 30, 2009. If no public comment is received during the 30-day public comment period, or unless otherwise published in the Federal Register by VA, the new system of records statement is effective on April 30, 2009.

ADDRESSES: Written comments may be submitted through http://www.Regulations.gov; by mail or hand-delivery to: Director, Regulations Management (02REG), Department of Veterans Affairs, 810 Vermont Avenue, NW., Room 1068, Washington, DC 20420; fax to (202) 273-9026. Copies of comments received will be available for public inspection in the Office of Regulation Policy and Management, Room 1063B, between the hours of 8 a.m. and 4:30 p.m., Monday through Friday (except holidays). Please call (202) 461-4902 for an appointment (this is not a toll-free number). In addition, during the comment period, comments may be viewed Online through the Federal Docket Management System (FDMS) at http://www.Regulations.gov.

FOR FURTHER INFORMATION CONTACT: Peter Mulhern, Office of Financial Policy (047G), Department of Veterans Affairs, 810 Vermont Avenue, NW., Washington, DC 20420, Telephone: (202) 461-6487 (this is not a toll-free number).

SUPPLEMENTARY INFORMATION: Pursuant to the Privacy Act of 1974 (5 U.S.C. 552a) and the Office of Management and Budget (OMB) Circular No. A-130, VA has conducted a review of its Privacy Act systems of records notices and has determined that it needs to amend and establish the following routine use disclosures for the information maintained in the system of records entitled “Purchase Credit Card Program-VA” (131VA047):

Routine use three (3) is amended to add language to clarify when VA will disclose information to a court, adjudicative or administrative bodies, or the parties involved. A determination would be made in each instance that, under the circumstances involved, the purpose served by the use of the information in the particular litigation or process is compatible with a purpose for which VA collects the information.

Routine use five (5) is amended to add language to clarify when VA will disclose the names and addresses of veterans and their dependents in order to comply with the requirements of agencies, such as Federal, State, local, tribal and foreign agencies, charged with enforcing the law and investigations of violations or possible violations of law.

Routine use seven (7) is deleted. A further reading of this routine use indicates that it may be more restrictive than the disclosure provided to consumer reporting agencies, as set forth in 38 U.S.C. 552a(b)(12). In addition, any delinquent debts that remain outstanding are referred for collection action to the Department of the Treasury or the Department of Justice. Disclosure of information for such referrals is already covered by routine uses three (3) and nine (9). The remainder of the routine uses will be renumbered accordingly.

A new routine use ten (10) is added. VA may, on its own initiative, disclose any information or records to appropriate agencies, entities, and persons to respond to a suspected or confirmed data breach, including the conduct of any risk analysis or provision of credit protection services.

Finally, VA is adding new routines uses eleven (11), twelve (12), and thirteen (13). These three new routine uses are added to enable disclosure of information to the Merit Systems Protection Board (MSPB), the Federal Labor Relations Authority (FLRA), and the Equal Employment Opportunity Commission (EEOC) in order for each to address matters within their jurisdiction.

The Privacy Act of 1974 permits VA to disclose information about individuals without their consent for a routine use when the information will be used for a purpose that is compatible with the purpose for which VA collected the information. In all of the routine use disclosures described above, the recipient of the information will use the information either in connection with a matter related to one of VA's programs, or will use the information to provide a benefit to VA, or will disclose as required by law.

The notice of intent to publish and an advance copy of the system notice have been sent to the appropriate Congressional committees and to the Director of the Office of Management and Budget (OMB) as required by 5 U.S.C. 552a(r) (Privacy Act of 1974) and guidelines issued by OMB on December 12, 2000 (65FR77677).

Approved: March 3, 2009.
John R. Gingrich,
Chief of Staff, Department of Veterans Affairs.

131VA047

System Name:

Purchase Credit Card Program-VA

System Location:

This system of records is located in the finance/fiscal office of the local installations of the Department, the Financial Services Center, Austin, TX, and VA Central Office, Washington, DC. Records necessary for a contractor to perform under a contract are located at the contractor's facility.

Categories Of Individuals Covered By The System:

Individuals covered by the system are current VA employees who have their own Government assigned charge card, or who have had a charge card.

Categories Of Records In The System:

Records include name, work and home addresses, social security number, date of birth, employment information, work and home telephone numbers, information needed for identification verification, charge card applications, charge card statements, terms and conditions for use of the charge card, and monthly report from contractor(s) showing charges to individual account numbers, balances, and other types of account analysis.

Authority For Maintenance Of The System:

Federal Acquisition Regulation (FAR), Part 13, 48 CFR part 13, and Public Law 93-579, section 7(b).

Purpose(s):

To establish and maintain a system for operating, controlling, and managing the purchase credit card program involving commercial purchases by authorized VA employees.

Routine Uses Of Records Maintained In The System, Including Categories Of Users And The Purposes Of Such Uses:

System information may be accessed and used by authorized VA employees or contractors to conduct duties associated with the management and operation of the purchase credit card program.

Information from this system also may be disclosed as a routine use for the following purposes:

(1) The record of an individual who is covered by this system may be disclosed to a member of Congress, or a staff person acting for the member, when the member or staff person requests the record on behalf of and at the written request of the individual.

(2) Disclosure may be made to the National Archives and Records Administration (NARA) in records management inspections conducted under authority of Title 44 U.S.C.

(3) VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

(4) Disclosure of relevant information may be made to individuals, organizations, private or public agencies, or other entities with whom VA has a contract or agreement or where there is a subcontract to perform such services as VA may deem practicable for the purposes of laws administered by VA, in order for the contractor or subcontractor to perform the services of the contract or agreement.

(5) VA may disclose on its own initiative any information in this system, except the names and addresses of veterans and their dependents, that is relevant to a suspected or reasonably imminent violation of law, whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of veterans and their dependants to a Federal agency charged with the responsibility of investigating or prosecuting civil, criminal, or regulatory violations of law, or charged with enforcing or implementing the statute, regulation, or order issued pursuant thereto.

(6) Disclosure to other Federal agencies may be made to assist such agencies in preventing and detecting possible fraud or abuse by individuals in their operations and programs.

(7) Any information in this system of records concerning a delinquent debt may be disclosed to the Secretary of the Treasury, or to any designated Government disbursing official, for the purpose of conducting administrative offset of any eligible Federal payments, under the authority set forth in 31 U.S.C. 3716. Tax refund and Federal salary payments may be included in those Federal payments eligible for administrative offset.

(8) Any information in this system of records concerning a delinquent debt may be disclosed to the Secretary of the Treasury for appropriate collection or termination action, including the transfer of the indebtedness for collection or termination, in accordance with 31 U.S.C. 3711(g)(4), to a debt collection center designated by the Secretary of the Treasury, to a private collection agency, or to the Department of Justice. The Secretary of the Treasury, through the Department of the Treasury, a designated debt collection center, a private collection agency, or the Department of Justice, may take appropriate action on a debt in accordance with the existing laws under which the debt arose.

(9) Records from this system of records may be disclosed to officials of labor organizations recognized under 5 U.S.C. chapter 71, when relevant and necessary to their duties of exclusive representation concerning personnel policies, practices, and matters affecting working conditions.

(10) VA may, on its own initiative, disclose any information or records to appropriate agencies, entities, and persons when (a) VA suspects or has confirmed that the integrity or confidentiality of information in the system of records has been compromised; (b) VA has determined that as a result of the suspected or confirmed compromise there is a risk of embarrassment or harm to the reputation of the record subjects, harm to economic or property interests, identity theft or fraud, or harm to the security, confidentiality, or integrity of this system or other systems or programs (whether maintained by VA or another agency or entity) that rely upon the potentially compromised information; and (c) the disclosure to such agencies, entities, or persons whom VA determines to be reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

(11) VA may disclose information from this system to the Merit Systems Protection Board (MSPB), or the Office of the Special Counsel, when requested in connection with appeals, special studies of the civil service and other merit systems, review of rules and regulations, investigation of alleged or possible prohibited personnel practices, and such other functions promulgated in 5 U.S.C. 1205 and 1206, or as authorized by law.

(12) VA may disclose information from this system to the Federal Labor Relations Authority (FLRA), including its General Counsel, related to the establishment of jurisdiction, investigation, and resolution of allegations of unfair labor practices, or in connection with the resolution of exceptions to arbitration awards when a question of material fact is raised. Information may also be disclosed to the FLRA in order for it to address matters properly before the Federal Services Impasses Panel, to investigate representation petitions, and to conduct or supervise representation elections.

(13) VA may disclose information from this system to the Equal Employment Opportunity Commission (EEOC) when requested in connection with investigations of alleged or possible discriminatory practices, examination of Federal affirmative employment programs, or other functions of the Commission as authorized by law or regulation.

Disclosure to Consumer Reporting Agencies:

Pursuant to 5 U.S.C. 552a(b)(12), VA may disclose records from this system to consumer reporting agencies as defined in the Fair Credit Reporting Act 15 U.S.C. 1681a(f) or the Federal Claims Collection Act of 1966 31 U.S.C. 3701(a)(3). The disclosure is limited to information necessary to establish the identity of the individual, including name, address, and taxpayer identification number (Social Security number), the amount, status and history of the claim; and the agency or program under which the claim arose for the sole purpose of allowing the consumer reporting agency to prepare a commercial credit report. Title 31 U.S.C. 3711(e) governs the release of names and addresses of any person to consumer reporting agencies under certain circumstances.

Policies and Practices for Storing, Retrieving, Accessing, Retaining, and Disposing of Records in the System:

Storage:

Paper documents and electronic storage media.

Retrievability:

These records may be retrieved using various combinations of name or identification number (credit card number) of the individual on whom the records are maintained.

Safeguards:

This list of safeguards furnished in this System of Record is not an exclusive list of measures that has been, or will be, taken to protect individually-identifiable information.

The Financial Services Center will maintain the data in compliance with applicable VA security policy directives that specify the standards that will be applied to protect sensitive personal information. Security complies with applicable Federal Information Processing Standards (FIPS) issued by the National Institute of Standards and Technology (NIST).

Access to these records is restricted to authorized VA employees, contractors, or subcontractors who have been cleared to work by the VA Office of Security and Law Enforcement, on a “need to know” basis. They are required to take annual VA data privacy and security training.

Offices where these records are maintained are locked after working hours and are protected from outside access by the Federal Protective Service, other security officers, and alarm systems. Access to computerized records is restricted to authorized VA employees, contractors, or subcontractors by means of unique user identification and passwords.

Retention and Disposal:

In accordance with General Records Schedule 6, Item 1a(2), retain in inactive storage 1 year after the close of the fiscal year, then transfer to a Federal Archives and Records Center. Destroy 6 years and 3 months after period covered by account.

System Manager(S) and Address:

Deputy Assistant Secretary for Finance (047), VA Central Office, Washington, DC 20420.

Notification Procedures:

Individuals seeking information concerning the existence of a record pertaining to them must submit a written request to the VA station where the records are maintained. Such request must contain a reasonable description of the records requested. In addition, identification of the individual requesting the information will be required in the written request and will consist of the requester's name, signature, and address, at a minimum.

Record Access Procedures:

See “Notification Procedure” above.

Contesting Record Procedures:

See “Notification Procedure” above.

Record Source Categories:

Information received from individuals and the private credit card contractor.

[FR Doc. E9-7161 Filed 3-30-09; 8:45 am]

BILLING CODE 8320-01-P